DEPARTMENT OF THE INTERIOR

Fish and Wildlife Service

50 CFR Part 17

RIN 1018-AI21

Endangered and Threatened Wildlife and Plants; Designation of Critical Habitat for Astragalus pycnostachyus var. lanosissimus (Ventura marsh milk-vetch)

AGENCY: Fish and Wildlife Service, Interior.

ACTION: Proposed rule; reopening of comment period and notice of availability of draft economic analysis.

SUMMARY: We, the U.S. Fish and Wildlife Service, announce the reopening of the comment period for the proposed designation of critical habitat for the threatened Astragalus pycnostachyus var. lanosissimus (Ventura marsh milk-vetch) in Ventura and Santa Barbara Counties, California, and the availability of the draft economic analysis for the proposed designation of critical habitat. We are reopening the comment period to allow all interested parties to comment simultaneously on the proposed rule and the associated draft economic analysis. Comments previously submitted on the proposed critical habitat rule that was published in the Federal Register on October 9, 2002 (67 FR 62926), need not be resubmitted as they will be incorporated into the public record as part of this reopened comment period and will be fully considered in the final rule.

DATES: We will accept public comments until April 21, 2003.

ADDRESSES: Comments and information should be sent to the Field Supervisor, Ventura Fish and Wildlife Office, U.S. Fish and Wildlife Service, 2493 Portola Road, Suite B, Ventura, CA 93003. Written comments may also be sent by fax to 805/644-3958 or hand-delivered to our office at the above address. You may also send comments by electronic mail (e-mail). For instructions, see Public Comments Solicited under SUPPLEMENTARY INFORMATION section.

FOR FURTHER INFORMATION CONTACT: Rick Farris or Anna Toline of the Ventura Fish and Wildlife Office at 805/644-1766.

SUPPLEMENTARY INFORMATION:

Background

On October 9, 2002, we proposed to designate approximately 170 ha (420 ac) of land in three units in Ventura and Santa Barbara counties as critical habitat for Astragalus pycnostachyus var. lanosissimus (67 FR 62926). We accepted public comments on this proposed rule until December 9, 2002. Private lands comprise approximately 33 percent of the proposed critical habitat, and State lands comprise 67 percent. No Federal lands are proposed for inclusion. No federally listed animal species are known to occur on the proposed critical habitat units.

Critical habitat receives protection from destruction or adverse modification through required consultation under section 7 of the Endangered Species Act of 1973, as amended (Act), with regard to actions carried out, funded, or authorized by a Federal agency. Section 4(b)(2) of the Act requires that we designate or revise critical habitat on the basis of the best scientific and commercial data available, after taking into consideration the economic and any other relevant impact of specifying any particular area as critical habitat. Based upon the previously published proposal to designate critical habitat for Astragalus pycnostachyus var. lanosissimus, we have prepared a draft economic analysis of the proposed critical habitat designation. The economic analysis shows that the proposed designation is not likely to result in any consultation costs pursuant to section 7 of the Act. As a result, the analysis concluded that the potential economic cost attributed to the proposed designation is expected to be $0. The draft analysis is available on the Internet and from the mailing address in the ADDRESSES section above. We are reopening the comment period to allow all interested parties to comment simultaneously on the proposed rule and the associated draft economic analysis.

Public Comments Solicited

We have reopened the comment period at this time in order to accept the best and most current scientific and commercial data available regarding the proposed critical habitat determination for Astragalus pycnostachyus var. lanosissimus, and the draft economic analysis associated with the designation of critical habitat. Previously submitted written comments on the critical habitat proposal need not be resubmitted. We will accept written comments and information during this reopened comment period. If you wish to comment, you may submit your comments and materials concerning this proposal by any of several methods:

You may mail or hand-deliver written comments and information to the Field Supervisor (see ADDRESSES section). Hand deliveries must be made during normal business hours.

You may send comments by electronic mail (e-mail) to: fw1venturamilkvetch@fws.gov. If you submit comments by e-mail, please submit them as an ASCII file and avoid the use of any special characters and any form of encryption. Also, please include “Attn: RIN 1018-AI21” and your name and return address in your e-mail message. If you do not receive a confirmation from the system that we have received your e-mail message, contact the Ventura Fish and Wildlife Office at 805/644-1766.

Comments and materials received, as well as supporting documentation used in preparation of the proposal to designate critical habitat and the draft economic analysis, will be available for inspection, by appointment, during normal business hours at the address above. You may obtain copies of the draft economic analysis on the Internet at http://www.r1.fws.gov. or by writing to the Field Supervisor at the address above.

Our practice is to make comments, including names and home addresses of respondents, available for public review during regular business hours. Individual respondents may request that we withhold their home address, which we will honor to the extent allowable by law. There also may be circumstances in which we would withhold a respondent's identity, as allowable by law. If you wish us to withhold your name and/or address, you must state this request prominently at the beginning of your comments. However, we will not consider anonymous comments. To the extent consistent with applicable law, we will make all submissions for organizations or businesses, and from individuals identifying themselves as representatives or officials of organizations or businesses, available for public inspection in their entirety. Comments and materials received will be available for public inspection, by appointment, during normal business hours at the above address.

We solicit comments or suggestions from the public, other concerned governmental agencies, Tribes, the scientific community, industry, or any other interested parties concerning the proposal or the draft economic analysis. We particularly seek comments concerning:

(1) Does the analysis accurately capture and discuss plans or potential for development or conversion to agriculture within the area proposed to be designated;

(2) Does the analysis adequately address the indirect effects e.g.: property tax losses due to reduced home construction, losses to local business due to reduced construction activity

(3) Does the analysis accurately define and capture opportunity costs.

(4) Does the analysis adequately address the likelihood of “stigma effects” and costs associated with the designation; and

(5) Does the analysis adequately address the likely effects and resulting costs arising from the California Environmental Quality Act and other State laws as a result of the designation.

References Cited

A complete list of all references cited herein, as well as others used in the development of the proposed critical habitat and draft economic analysis, is available upon request from the Ventura Fish and Wildlife Office (see ADDRESSES section).

Author

The primary author of this notice is Rick Farris (see ADDRESSES section)

Authority

The authority for this action is the Endangered Species Act of 1973 (16 U.S.C. 1531 et seq.).

Dated: March 7, 2003.
Paul Hoffman,
Acting Assistant Secretary for Fish and Wildlife and Parks.

[FR Doc. 03-6292 Filed 3-19-03; 8:45 am]

BILLING CODE 4310-55-P